FEDERAL ELECTION COMMISSION

[Notice 2015-12]

Filing Dates for the Ohio Special Elections in the 8th Congressional District

AGENCY: Federal Election Commission.

ACTION: Notice of filing dates for special elections.

SUMMARY: Ohio has scheduled special elections on March 15, 2016, and June 7, 2016, to fill the U.S. House of Representatives seat in the 8th Congressional District vacated by Representative John Boehner.

Committees required to file reports in connection with the Special Primary Election on March 15, 2016, shall file a 12-day Pre-Primary Report. Committees required to file reports in connection with both the Special Primary and the Special General Election on June 7, 2016, shall file a 12-day Pre-Primary Report, 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Ohio Special Primary and Special General Elections shall file a 12-day Pre-Primary Report on March 3, 2016; a 12-day Pre-General Report on May 26, 2016; and a Post-General Report on July 7, 2016. (See charts below for the closing date for each report.)

All principal campaign committees of candidates participating only in the Special Primary Election shall file a 12-day Pre-Primary Report on March 3, 2016. (See charts below for the closing date for each report.)

Unauthorized Committees (PACs and Party Committees)

Political committees filing on a quarterly basis in 2016 are subject to special election reporting if they make previously undisclosed contributions or expenditures in connection with the Ohio Special Primary or Special General Elections by the close of books for the applicable report(s). (See charts below for the closing date for each report.)

Committees filing monthly that make contributions or expenditures in connection with the Ohio Special Primary or Special General Elections will continue to file according to the monthly reporting schedule.

Additional disclosure information in connection with the Ohio Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods. (See charts below for closing date of each period.) 11 CFR 104.22(a)(5)(v), (b).

The lobbyist bundling disclosure threshold for calendar year 2015 is $17, 600. This threshold amount may change in 2016 based upon the annual cost of living adjustment (COLA). As soon as the adjusted threshold amount is available, the Commission will publish it in the Federal Register and post it on its Web site. 11 CFR 104.22(g) and 110.7(e)(2). For more information on these requirements, see Federal Register Notice 2009-03, 74 FR 7285 (February 17, 2009).

Calendar of Reporting Dates for Ohio Special Elections Committees Involved in Only The Special Primary (03/15/16) Must File
Report | Close of books ¹ | Reg./cert. & overnight mailing deadline | Filing deadline
Pre-Primary | 02/24/16 | 02/29/16 | 03/03/16
April Quarterly | 03/31/16 | 04/15/16 | 04/15/16

Committees Involved in Both the Special Primary (03/15/16) and Special General (06/07/16) Must File
Report | Close of books ¹ | Reg./Cert. & overnight mailing deadline | Filing deadline
Pre-Primary | 02/24/16 | 02/29/16 | 03/03/16
April Quarterly | 03/31/16 | 04/15/16 | 04/15/16
Pre-General | 05/18/16 | 05/23/16 | 05/26/16
Post-General | 06/27/16 | 07/07/16 | 07/07/16
July Quarterly |  | —WAIVED— |
October Quarterly | 09/30/16 | 10/15/16 | 10/15/16

Committees Involved in Only the Special General (06/07/16) Must File
Report | Close of books ¹ | Reg./cert. & overnight mailing deadline | Filing deadline
Pre-General | 05/18/16 | 05/23/16 | 05/26/16
Post-General | 06/27/16 | 07/07/16 | 07/07/16
July Quarterly |  | —WAIVED— |
October Quarterly | 09/30/16 | 10/15/16 | 10/15/16
¹ The reporting period always begins the day after the closing date of the last report filed. If the committee is new and has not previously filed a report, the first report must cover all activity that occurred before the committee registered as a political committee up through the close of books for the first report due.

On behalf of the Commission.
Dated: December 9, 2015.
Ann M. Ravel,
Chair, Federal Election Commission.

[FR Doc. 2015-31545 Filed 12-15-15; 8:45 am]

BILLING CODE 6715-01-P